DEPARTMENT OF AGRICULTURE

Forest Service

Modoc Resource Advisory Committee

AGENCY: Forest Service, USDA.

ACTION: Notice of meeting.

SUMMARY: The Modoc Resource Advisory Committee (RAC) will meet in Alturas, California. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meetings is discuss RAC business and projects that meet the intent of Public Law 110-343.

DATES: The meetings will be held May 19, 2014, June 9, 2014, and June 30, 2014 at 6 p.m.

All RAC meetings are subject to cancellation. For status of meeting prior to attendance, please contact the person listed under FOR FURTHER INFORMATION CONTACT.

ADDRESSES: The meeting will be held at Modoc National Forest Supervisor's Office, Conference Room, 225 W. 8th St., Alturas, California 96101.

Written comments may be submitted as described under SUPPLEMENTARY INFORMATION. All comments, including names and addresses when provided, are placed in the record and are available for public inspection and copying. The public may inspect comments received at Modoc National Forest Supervisor's Office, Conference Room, 225 W. 8th St., Alturas, California 96101. Please call ahead to facilitate entry into the building.

FOR FURTHER INFORMATION CONTACT: Ann D. Carlson, Acting Forest Supervisor and Designated Federal Officer by phone at (530)233-8700 or via email at adcarlson@fs.fed.us or Adrian Cuzick, Rangeland Management Specialist and Resource Advisory Committee Coordinator, by phone at (530)233-8746 or via email at alcuzick@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommodation for access to the facility or procedings by contacting the person listed above.

SUPPLEMENTARY INFORMATION: Additional RAC information, including the meeting agenda and the meeting summary/minutes can be found at the following Web site: https://fsplaces.fs.fed.us/fsfiles/unit/wo/secure_rural_schools.nsf/RAC/Modoc+County?OpenDocument. The agenda will include time for people to make oral statements of three minutes or less. Individuals wishing to make an oral statement should request in writing by May 16, 2014, June 6, 2014 and June 27, 2014 to be scheduled on the agenda. Anyone who would like to bring related matters to the attention of the committee may file written statements with the committee staff before or after the meeting. Written comments and requests for time for oral comments must be sent to Adrian Cuzick, Rangeland Management Specialist and Resource Advisory Committee Coordinator, Modoc National Forest, 225 W. 8th St., Alturas, CA 96101; or by email to alcuzick@fs.fed.us, or via facsimile to (530)233-8809.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: April 28, 2014.
Ann D. Carlson,
Acting Forest Supervisor.

[FR Doc. 2014-10340 Filed 5-7-14; 8:45 am]

BILLING CODE 3411-15-P